DEPARTMENT OF THE INTERIOR

Fish and Wildlife Service

[FWS-R8-ES-2015-N165; FXES11120800000-145-FF08EVEN00]

Proposed Low-Effect Habitat Conservation Plan, Southern California Gas Company, Pipeline 1010—Purisima, Santa Barbara County, California

AGENCY: Fish and Wildlife Service, Interior.

ACTION: Notice of availability; request for comment.

SUMMARY: We, the U.S. Fish and Wildlife Service, have received an application from Southern California Gas Company for a 5-year incidental take permit under the Endangered Species Act of 1973, as amended. The application addresses the potential for “take” of the federally endangered California tiger salamander and the federally threatened California red-legged frog, likely to occur incidental to excavation and maintenance of a gas pipeline between Buellton and Lompoc, in Santa Barbara County, California. We invite comments from the public on the application package, which includes the low-effect habitat conservation plan (HCP) for the endangered California tiger salamander and the threatened California red-legged frog. You may download a copy of the draft HCP at http://www.fws.gov/ventura/, or you may request copies by U.S. mail or phone (see below).

DATES: We will accept comments received or postmarked by September 30, 2015.

ADDRESSES: To request further information or submit comments related to the permit application or HCP, please use one of these methods:

1. U.S. Mail: You may mail written comments to Stephen P. Henry, Field Supervisor, Ventura Fish and Wildlife Office, 2493 Portola Rd., Suite B, Ventura, CA 93003.

2. In-Person Drop-off: You may hand-deliver written comments to the U.S. mail address above.

3. Email: You may submit comments by electronic mail to socalgaspipeline1010hcp@fws.gov. If submitting an electronic mail attachment, please use one of these document formats: Adobe portable document format (.pdf), Microsoft Word (.doc, .docx), rich text file (.rtf), ASCII or Unicode plaintext (.txt), Microsoft Excel (.xls, .xlsx), Word Perfect (.wpd), or Microsoft Works (.wps).

FOR FURTHER INFORMATION CONTACT: David Simmons, Fish and Wildlife Biologist, by U.S. mail at the address above, or by telephone at (805) 644-1766. Persons who use a telecommunications device for the deaf (TDD) may call the Federal Information Relay Service (FIRS) at 800-877-8339 to contact the above individual during normal business hours. The FIRS is available 24 hours a day, 7 days a week, to leave a message or question with the above individual. You will receive a reply during normal business hours.

SUPPLEMENTARY INFORMATION: This notice advises the public that we received an application from Southern California Gas Company (applicant) for a 5-year incidental take permit (ITP) under section 10(a)(1)(B) of the Endangered Species Act of 1973, as amended (Act; 16 U.S.C. 1531 et seq.). The application addresses the potential for “take” of the federally endangered California tiger salamander (Ambystoma californiense) and federally threatened California red-legged frog (Rana draytonii) (collectively, covered species) likely to occur incidental to the excavation and maintenance of pipeline 1010 at four locations between the cities of Buellton and Lompoc, Santa Barbara County, California. The applicant prepared an HCP that includes a conservation program to avoid and minimize effects on suitable habitat for the covered species and the likelihood of take as a result of activities covered in the HCP. The applicant also would mitigate for incidental take of the covered species likely to result from activities covered in the HCP. In response to the applicant's permit application, we completed a screening form for low-effect HCPs and determined that the HCP qualifies as a low-effect plan and our proposed action (issuing an ITP to the applicant) is eligible for a categorical exclusion under the National Environmental Policy Act of 1969, as amended (42 U.S.C. 4321 et seq.). We invite the public to comment on the application package, which includes the HCP, the draft screening form, and associated documents.

Background

The U.S. Fish and Wildlife Service (Service) listed the Santa Barbara County distinct population segment of the California tiger salamander as endangered on September 21, 2000 (65 FR 57242). The Service listed the California red-legged frog as threatened on May 23, 1996 (61 FR 25813). Section 9 of the Act and its implementing regulations prohibit the “take” of fish or wildlife species listed as endangered or threatened. “Take” is defined under the Act to include the following activities: “To harass, harm, pursue, hunt, shoot, wound, kill, trap, capture, or collect, or to attempt to engage in any such conduct” (16 U.S.C. 1532). Under limited circumstances consistent with section 10(a)(1)(B) of the Act, we may issue permits to authorize incidental take of listed species. “Incidental take” is take that is incidental to, and not the purpose of, carrying out of an otherwise lawful activity. Regulations governing incidental take permits for endangered and threatened species are provided at 50 CFR 17.22 and 17.32, respectively. In addition to meeting other criteria, activities covered by an incidental take permit must not jeopardize the continued existence of federally listed fish, wildlife, or plant species in the wild. Under the Service's “No Surprises” regulations (50 CFR 17.22(b)(5) and 17.32(b)(5)), permittees properly implementing an HCP are provided assurances for each species covered by the HCP.

Proposed Action and Alternatives

Southern California Gas proposes to excavate, inspect, and, if necessary, repair a natural gas pipeline at four locations along the Highway 246 corridor between the cities of Buellton and Lompoc in Santa Barbara County. The project purpose is to inspect identified anomalies in the pipeline, ensure pipeline integrity, and comply with rules and regulations related to pipeline safety—specifically, the Pipeline Safety Improvement Act of 2002 and all State and Federal regulations promulgated since that time. Each of the four excavation sites would be 1,600 square feet or less, and the project would disturb a maximum of 1.04 acres. The Applicant would use existing roadways to access the dig areas to the extent possible to minimize habitat disturbance. Southern California Gas expects to complete the project in 16 weeks or less.

All four dig locations are in suitable upland habitat for the covered species and within dispersal distance of breeding habitat. The covered activities could cause take during equipment staging and excavating the dig sites, as well as through capture and relocation; however, the latter is intended to reduce the likelihood of injury or death of the covered species by moving individuals out of harm's way.

The conservation program described in the HCP includes measures to avoid and minimize impacts to the covered species, including but not limited to worker training sessions; surveys and monitoring of work areas; relocating individuals of the covered species observed in work areas; and daily, seasonal, and weather-specific work restrictions. The applicant will limit ground disturbance to a total of 1.04 acres of upland habitat. No work will be conducted in any streams, drainages, riparian areas, wetlands, or other aquatic features, and the project would not disturb aquatic breeding habitat for the covered species. The applicant will provide off-site mitigation for temporary impacts to upland habitat and any impacts of taking the covered species as a result of the project by purchasing credits in the La Purisima Conservation Bank.

In the HCP, the applicant considers two alternatives to the proposed taking of the covered species: “No Action” and “Redesigned Project.” Under the “No Action” alternative, Southern California Gas would not submit a permit application to the Service and would not receive an ITP for pipeline maintenance activities. This alternative would avoid impacts to the covered species; however, this alternative also would preclude maintenance of the pipeline and, for this reason, the applicant rejected the “No Action” alternative. Under the “Redesigned Project” alternative, the applicant would relocate the proposed staging area to reduce impacts to upland habitat for the covered species. However, realistic alternative locations for the staging area would be either closer to breeding habitat for the covered species or adjacent to Highway 246. The applicant rejected this alternative due to increased potential effects to the covered species and increased risk to project workers.

Our Preliminary Determination

We are requesting comments on our preliminary determination that the applicant's proposal will have a minor or negligible effect on the covered species and that the plan qualifies as a low-effect HCP as defined by our Habitat Conservation Planning Handbook (November 1996). We base our determinations on three criteria: (1) Implementation of the proposed project as described in the HCP would result in minor or negligible effects on federally listed, proposed, and/or candidate species and their habitats; (2) implementation of the HCP would result in minor or negligible effects on other environmental values or resources; and (3) impacts of the HCP, considered together with those of other past, present, and reasonably foreseeable similarly situated projects, would not result, over time, in cumulative effects to environmental values or resources that would be considered significant. Based on our analysis of these criteria, we made a preliminary determination that approval of the HCP and issuance of an ITP to Southern California Gas qualify for categorical exclusion under the National Environmental Policy Act (42 U.S.C. 4321 et seq.), as provided by the Department of Interior Manual (43 CFR 46 and 516 DM 8). Based on our review of public comments that we receive in response to this notice, we may revise this preliminary determination.

Next Steps

We will evaluate the permit application, including the HCP and comments we receive, to determine whether the application meets the issuance criteria of section 10(a)(1)(B) of the Act and its implementing regulations (50 CFR 17.22 and 17.32). We also will evaluate whether issuance of the ITP would comply with section 7(a)(2) of the Act by conducting an intra-Service consultation consistent with section 7 of the Act. We will use the results of this consultation, in combination with the above findings, in our final analysis to determine whether or not to issue an ITP. If the requirements are met, we will issue the ITP to the Applicant for the incidental take of the California tiger salamander and California red-legged frog. We will make the final permit decision no sooner than 30 days after the date of this notice.

Public Comments

You may submit comments on the permit application, HCP, screening form, and associated documents by any one of the methods in ADDRESSES.

Public Availability of Comments

Before including your address, phone number, electronic mail address, or other personal identifying information in your comment, you should be aware that your entire comment—including your personal identifying information—may be made publicly available at any time. While you can ask us in your comment to withhold your personal identifying information from public view, we cannot guarantee that we will be able to do so.

Authority

We provide this notice under section 10 of the Act (16 U.S.C. 1531 et seq.) and NEPA regulations (40 CFR 1506.6).

Dated: August 24, 2015.
Stephen P. Henry,
Field Supervisor, Ventura Fish and Wildlife Office, Ventura, California.

[FR Doc. 2015-21457 Filed 8-28-15; 8:45 am]

BILLING CODE 4310-55-P